DEPARTMENT OF ENERGY

Federal Energy Regulatory Commission

Combined Notice of Filings #1

Take notice that the Commission received the following electric rate filings:

Docket Numbers: ER10-2126-007; EL23-73-000.

Applicants: Idaho Power Company, Idaho Power Company.

Description: Idaho Power Company submits Response to June 8, 2023, Show Cause Order.

Filed Date: 8/7/23.

Accession Number: 20230807-5183.

Comment Date: 5 p.m. ET 9/6/23.

Docket Numbers: ER10-2126-006; EL23-9-000.

Applicants: Idaho Power Company, Idaho Power Company.

Description: Response to Show Cause Order of Idaho Power Company.

Filed Date: 1/30/23.

Accession Number: 20230130-5217.

Comment Date: 5 p.m. ET 9/6/23.

Docket Numbers: ER23-2481-000.

Applicants: Crystal Hill Solar, LLC.

Description: Supplement to July 25, 2023, Crystal Hill Solar, LLC submits tariff filing Market-Based Rate Application.

Filed Date: 8/8/23.

Accession Number: 20230808-5135.

Comment Date: 5 p.m. ET 9/6/23.

Docket Numbers: ER23-2630-000.

Applicants: NextEra Energy Transmission Southwest, LLC.

Description: Application for Authorization for Abandoned Plant Incentive Rate Treatment of NextEra Energy Transmission Southwest, LLC.

Filed Date: 8/15/23.

Accession Number: 20230815-5160.

Comment Date: 5 p.m. ET 9/5/23.

Docket Numbers: ER23-2631-000.

Applicants: PJM Interconnection, L.L.C.

Description: Tariff Amendment: Notice of Cancellation of ISA/CSA, SA Nos. 4810 and 4811; Queue No. AA2-103 to be effective 10/16/2023.

Filed Date: 8/16/23.

Accession Number: 20230816-5042.

Comment Date: 5 p.m. ET 9/6/23.

Docket Numbers: ER23-2632-000.

Applicants: PJM Interconnection, L.L.C.

Description: § 205(d) Rate Filing: Amendment to WMPA, Service Agreement No. 5856; Queue No. AF2-379 re: Milestone to be effective 10/16/2023.

Filed Date: 8/16/23.

Accession Number: 20230816-5052.

Comment Date: 5 p.m. ET 9/6/23.

Docket Numbers: ER23-2633-000.

Applicants: Midcontinent Independent System Operator, Inc.

Description: § 205(d) Rate Filing: 2023-08-16_SA 3591 Termination of METC-Heartland Farms E&P (J984) to be effective 8/17/2023.

Filed Date: 8/16/23.

Accession Number: 20230816-5087.

Comment Date: 5 p.m. ET 9/6/23.

Docket Numbers: ER23-2634-000.

Applicants: Northern States Power Company, a Minnesota corporation.

Description: § 205(d) Rate Filing: 2023-08-16 HUC GRE MOU McLeod SS 741 to be effective 8/17/2023.

Filed Date: 8/16/23.

Accession Number: 20230816-5102.

Comment Date: 5 p.m. ET 9/6/23.

Docket Numbers: ER23-2635-000.

Applicants: PJM Interconnection, L.L.C.

Description: § 205(d) Rate Filing: ISA, SA No. 6571; Queue No. AE2-104/AF2-110 to be effective 7/20/2023.

Filed Date: 8/16/23.

Accession Number: 20230816-5115.

Comment Date: 5 p.m. ET 9/6/23.

Docket Numbers: ER23-2636-000.

Applicants: San Diego Gas & Electric Company.

Description: § 205(d) Rate Filing: Service Agreement No. 66 to be effective 8/17/2023.

Filed Date: 8/16/23.

Accession Number: 20230816-5118.

Comment Date: 5 p.m. ET 9/6/23.

Docket Numbers: ER23-2637-000.

Applicants: PJM Interconnection, L.L.C.

Description: § 205(d) Rate Filing: Ministerial Clean-Up Filing, Tariff, Attachment Q to be effective 5/1/2021.

Filed Date: 8/16/23.

Accession Number: 20230816-5135.

Comment Date: 5 p.m. ET 9/6/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

Dated: August 16, 2023.
Debbie-Anne A. Reese,
Deputy Secretary.

[FR Doc. 2023-18016 Filed 8-21-23; 8:45 am]

BILLING CODE 6717-01-P